DEPARTMENT OF COMMERCE

National Oceanic and Atmospheric Administration

RIN 0648-XD650

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS, has made a preliminary determination that an exempted fishing permit application contains all of the required information and warrants further consideration. This Exempted Fishing Permit would exempt a commercial fishing vessel from mesh size requirements and butterfish possession limits to test experimental codend mesh configurations as a means to reduce juvenile butterfish bycatch in the directed butterfish fishery. Cornell University Cooperative Extension of Suffolk County, NY, will be conducting this research. Regulations under the Magnuson-Stevens Fishery Conservation and Management Act require publication of this notification to provide interested parties the opportunity to comment on applications for proposed exempted fishing permits.

DATES: Comments must be received on or before December 29, 2014.

ADDRESSES: You may submit written comments by any of the following methods:

• Email: NMFS.GAR.EFP@noaa.gov. Include in the subject line “Comments on CCE Butterfish Selectivity EFP.”

• Mail: John K. Bullard, Regional Administrator, NMFS, NE Regional Office, 55 Great Republic Drive, Gloucester, MA 01930. Mark the outside of the envelope “Comments on CCE Butterfish Selectivity EFP.”

• Fax: (978) 281-9135.

FOR FURTHER INFORMATION CONTACT: Shannah Jaburek, Fishery Management Specialist, 978-282-8456, shannah.jaburek@noaa.gov.

SUPPLEMENTARY INFORMATION: The Cornell Cooperative Extension (CCE) submitted a complete application for an Exempted Fishing Permit (EFP) on October 3, 2014, to conduct commercial fishing activities that the regulations would otherwise restrict. The EFP would exempt one vessel from the minimum mesh size and butterfish possession limit restrictions in the Atlantic Mackerel, Squid, and Butterfish Fishery Management Plan. The possession limit exemptions are necessary because the project is using a 3-inch (7.62-cm) mesh control codend used in the targeted longfin squid fishery, which triggers a butterfish possession limit of less than 2500 lb (1134 kg). They are using this as the control in order to retain smaller size butterfish to more effectively determine the ability of the two experimental codends to reduce the catch of small butterfish. Further, due to the number of replicates needed to test the experimental gear, CCE wants to be able to retain butterfish catch and avoid wasteful discarding.

CCE received funding from the Commercial Fisheries Research Foundation to conduct a study that would compare butterfish catch in otter trawls with different codend mesh configurations in an attempt to reduce the catch of juvenile butterfish. The net used in the study will be a 420 X 16-cm, 4 seam trawl with a 114-ft (34.75-m) cookie sweep suited for vessels with horsepower in the range of 700 hp to 755 hp. The codends will be compared using a trouser trawl configuration. One leg of the trawl will have a control 6-cm diamond mesh codend typical of the longfin squid fishery, and the other leg will have either an 8-cm square mesh codend, or an 8-cm diamond mesh turned 90 degrees (T-90). One vessel contracted by CCE will conduct five days of fishing, which is representative of normal commercial fishing trips for butterfish. Tow length would be limited to 30 min per tow, and researchers plan on conducting eight tows per day, with additional tows if time permits, with a minimum total of 40 tows (20 tows per experimental mesh). Within each day the sides of the codend will be switched to randomize sampling across both legs of the trouser trawl. Catch for each codend will be kept separate on deck and will be processed following standard NMFS survey methods. Total butterfish actual weight and a minimum of 200 random lengths will be recorded per codend per tow. Total weight of all species in each codend per tow will be obtained by either actual weight or sub-sampling. Researchers propose to conduct the trip during the period December 2014 through March 2015. The participating vessel would fish under the EFP along the continental shelf from east of Hydrographers Canyon west to Toms Canyon, including Atlantic, Block, and Hudson Canyons along the 60 fathom shoal (all research to be done in statistical areas 616, 537, and 526). Exact locations will be determined by the captain based on knowledge of fishery and reported butterfish locations.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: December 9, 2014.
Emily H. Menashes,
Acting Director, Office of Sustainable Fisheries, National Marine Fisheries Service.

[FR Doc. 2014-29189 Filed 12-11-14; 8:45 am]

BILLING CODE 3510-22-P